DEPARTMENT OF THE INTERIOR

Fish and Wildlife Service

[FWS-R3-ES-2011-N278; FXES11130300000F3-123-FF03E00000]

Endangered and Threatened Wildlife and Plants; Permit Applications

AGENCY: Fish and Wildlife Service, Interior.

ACTION: Notice of availability; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before February 16, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE217351.

Applicant: Katrina L. Schultes, U.S.D.A., Forest Service, Nelsonville, OH.

The applicant requests a renewed and amended permit to take (capture and release) Indiana bats (Myotis sodalis) in the States of Ohio and Kentucky. Proposed activities are aimed at enhancement of survival of the species in the wild.

Permit Application Number: TE60958A.

Applicant: Bat Calls Identification, Inc., Kansas City, MO.

The applicant requests a permit to take (capture and release) Indiana bats, Ozark big-eared bats (Corynorhinus townsendii ingens), Virginia big-eared bats (Corynorhinus townsendii virginianus), and gray bats (Myotis grisescens) throughout the ranges of the species. This includes proposed work in the States of Alabama, Arkansas, Connecticut, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Texas, Vermont, Virginia, West Virginia, and Wisconsin. Proposed activities are for the enhancement of survival of the species in the wild.

Permit Application Number: TE43555A.

Applicant: Maria Gabriella Bidart-Bouzat, Bowling Green State University, Bowling Green, OH.

The applicant requests a permit renewal and amendment to take (temporarily hold) Karner Blue Butterfly (Lycaeides melissa samuelis) adults, larvae, and eggs for scientific purposes. Specimens (including eggs) will be received in conjunction with permitted reintroduction programs, and all larval specimens surviving to adults will be released to the wild following authorized activities. Research is proposed for the recovery and enhancement of survival of the species in the wild.

Permit Application Number: TE60999A.

Applicant: Levi D. Miller, USDA-Forest Service, Logan, OH.

The applicant requests a permit to take (capture and release) Indiana bats in the States of Ohio and Kentucky. Proposed activities are aimed at enhancement of survival of the species in the wild.

Permit Application Number: TE62286A.

Applicant: Jason B. Whittle, Cuyahoga Falls, OH.

The applicant requests a permit to take (capture and release) Indiana bats throughout the range of the species. This includes proposed work in the States of Alabama, Arkansas, Connecticut, Florida, Georgia, Illinois, Indiana, Iowa, Kentucky, Maryland, Michigan, Mississippi, Missouri, New Jersey, New York, North Carolina, Ohio, Oklahoma, Pennsylvania, Tennessee, Vermont, Virginia, and West Virginia. Proposed activities are for the enhancement of survival of the species in the wild.

Permit Application Number: TE62297A.

Applicant: Michael D. Whitby, Ball State University, Muncie, IN.

The applicant requests a permit to take (capture and release) Indiana bats and gray bats throughout the States of Alabama, Arkansas, Connecticut, Florida, Georgia, Illinois, Indiana, Iowa, Kentucky, Maryland, Michigan, Mississippi, Missouri, New Jersey, New York, North Carolina, Ohio, Oklahoma, Pennsylvania, Tennessee, Vermont, Virginia, and West Virginia. Proposed activities are for the enhancement of survival of the species in the wild.

Permit Application Number: TE62311A.

Applicant: Mary B. Gilmore, Cincinnati, OH.

The applicant requests a permit to take (capture and release) Indiana bats throughout the range of the species. This includes proposed work in the States of Alabama, Arkansas, Connecticut, Florida, Georgia, Illinois, Indiana, Iowa, Kentucky, Maryland, Michigan, Mississippi, Missouri, New Jersey, New York, North Carolina, Ohio, Oklahoma, Pennsylvania, Tennessee, Vermont, Virginia, and West Virginia. Proposed activities are for the enhancement of survival of the species in the wild.

Permit Application Number: TE235639.

Applicant: Davey Resource Group, Kent, OH.

The applicant requests a permit to take (capture and release) Indiana bats within Indiana, Kentucky, Michigan, Ohio, Pennsylvania, and West Virginia. Proposed activities are for the enhancement of survival of the species in the wild.

Permit Application Number: TE02560A.

Applicant: Timothy C. Carter, Ball State University, Muncie, IN.

The applicant requests a permit renewal and amendment to take (capture and release) Indiana bats and gray bats throughout the States of Georgia, Illinois, Indiana, Iowa, Michigan, Missouri, Ohio and Wisconsin. Proposed activities are for the enhancement of survival of the species in the wild.

Permit Application Number: TE62334A.

Applicant: Mark Hove, University of Minnesota, St. Paul, MN.

The applicant requests a permit to take (capture and hold) mussel specimens occurring in the Mississippi and St. Croix River watersheds for scientific research. Proposed research activities are in the interest of recovery of the species, and the applicant may capture any of the following listed or proposed species: Winged mapleleaf (Quadrula fragosa), Higgins' eye pearlymussel (Lampsilis higginsi), Sheepnose (Plethobasus cyphyus), Snuffbox (Epioblasma triquetra), and Spectaclecase (Cumberlandia monodonta). Proposed recovery research will occur in the Mississippi River basin, in the States of Minnesota and Wisconsin.

Permit Application Number: TE02373A.

Applicant: Environmental Solutions and Innovations, Inc., Cincinnati, OH.

The applicant requests a permit renewal to take (capture and release) Indiana bats, gray bats, Virginia big-eared bats, Ozark big-eared bats, Running buffalo clover (Trifolium stoloniferum), Northeastern bulrush (Scirpus ancistrocheatus), and the following mussel species:

Alasmidonta atropurpurea | Cumberland elktoe
Alasmidonta heterodon | Dwarf wedgemussel
Cyprogenia stegaria | Fanshell
Cumberlandia monodonta | Spectaclecase
Dromus dromas | Dromedary pearlymussel
Epioblasma brevidens | Cumberland combshell
Epioblasma capsaeformis | Oyster mussel
Epioblasma florentina florentina | Yellow blossom
Epioblasma florentina walkeri | Tan riffleshell
Epioblasma obliquata obliquata | Purple catspaw
Epioblasma obliquata perobliqua | White catspaw
Epioblasma torulosa rangiana | Northern riffleshell
Epioblasma torulosa torulosa | Tubercled-blossom pearlymussel
Epioblasma triquetra | Snuffbox
Hemistena lata | Cracking pearlymussel
Lampsilis abrupta | Pink mucket
Leptodea leptodon | Scaleshell
Obovaria retusa | Ring pink
Pegias fibula | Littlewing pearlymussel
Plethobasus cicatricosus | White wartyback pearlymussel
Plethobasus cooperianus | Orangefoot pimpleback
Plethobasus cyphyus | Sheepnose
Pleurobema clava | Clubshell
Pleurobema collina | James spiny mussel
Pleurobema plenum | Rough pigtoe
Potamilus capax | Fat pocketbook
Quadrula cylindrical strigillata | Rough rabbitsfoot
Quadrula fragosa | Winged mapleleaf
Villosa fabalis | Rayed bean
Villosa trabilis | Cumberland bean

As part of the same application, the applicant also requests a permit renewal to take (capture and release) the following fish species:

Cyprinella caerulea | Blue shiner
Etheostoma sellare | Maryland darter
Percina rex | Roanoke logperch
Phoxinus cumberlandensis | Blackside Dace

Proposed work would take place in the States of Alabama, Arkansas, Connecticut, Delaware, Florida, Georgia, Illinois, Indiana, Iowa, Kansas, Kentucky, Maryland, Massachusetts, Michigan, Mississippi, Missouri, Nebraska, New Hampshire, New Jersey, New York, North Carolina, Ohio, Oklahoma, Pennsylvania, Rhode Island, South Carolina, Tennessee, Vermont, Virginia, West Virginia, and Wisconsin. Proposed activities include presence/absence surveys, habitat evaluation, and other activity designed to enhance the survival of the species in the wild.

Permit Application Number: TE234121.

Applicant: Western Ecosystems Technology, Inc.

The applicant requests a permit renewal to take (capture and release) Indiana bats, gray bats, Ozark big-eared bats, and Virginia big-eared bats within Alabama, Arkansas, Connecticut, Delaware, Florida, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the enhancement of survival of the species in the wild.

Permit Application Number: TE10891A.

Applicant: Illinois State Museum, Research and Collection Center, Springfield, IL.

The applicant requests a permit renewal to take (capture and release; collect) Hine's emerald dragonfly (Somatochlora hineana) adults and larvae for scientific study in the interest of recovery of the species. Proposed activities may occur throughout the range of the species in Alabama, Arkansas, Connecticut, Delaware, District of Columbia, Georgia, Illinois, Indiana, Iowa, Kentucky, Maine, Maryland, Massachusetts, Michigan, Minnesota, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE02651A.

Applicant: The Ohio Department of Transportation, Columbus, OH.

The applicant requests a permit renewal to take (capture and release) Indiana bats and American burying beetle (Nicrophorus americanus) within the State of Ohio. Proposed activities are for the enhancement of survival of the species in the wild.

Permit Application Number: TE224720.

Applicant: ABR, Inc. Environmental Research & Services

The applicant requests a permit renewal to take (capture and release) Indiana bats within the States of Connecticut, Delaware, Illinois, Indiana, Iowa, Maryland, Massachusetts, Michigan, Missouri, New Hampshire, New Jersey, New York, Ohio, Pennsylvania, Rhode Island, Vermont, Virginia, West Virginia, and Wisconsin. Proposed activities are for the enhancement of survival of the species in the wild.

Permit Application Number: TE151107.

Applicant: Redwing Ecological Services, Inc.

The applicant requests a permit renewal to take (capture and release) Indiana bats, gray bats, Ozark big-eared bats, and Virginia big-eared bats within the States of Alabama, Arkansas, Connecticut, Delaware, Georgia, Illinois, Indiana, Iowa, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. Proposed activities are for the enhancement of survival of the species in the wild.

Permit Application Number: TE06845A.

Applicant: Bernardin, Lochmueller and Associates, Inc., Evansville, IN.

The applicant requests a permit renewal to take (capture and release) Indiana bats within the State of Indiana. Proposed activities are for the enhancement of survival of the species in the wild.

Permit Application Number: TE181256.

Applicant: Lewis Environmental Consulting, LLC, Murray, KY.

The applicant requests a permit renewal to take (capture and release) the following mussel species: Clubshell, Northern riffleshell, Orange-footed pimpleback pearlymussel, Pink mucket pearlymussel, Rough pigtoe, Purple cat's paw pearlymussel, White cat's paw pearlymussel, Fanshell, Fat pocketbook, Higgins' eye pearlymussel, Winged mapleleaf, Scaleshell, Ring pink, and White wartyback. Proposed activities may occur within the States of Alabama, Arkansas, Florida, Georgia, Illinois, Indiana, Iowa, Kentucky, Mississippi, Missouri, Ohio, Pennsylvania, Tennessee, West Virginia, and Wisconsin, and are for the enhancement of survival of the species in the wild.

Permit Application Number: TE006012.

Applicant: Dr. Steve Taylor, Illinois Natural History Survey, Center for Biodiversity, Champaign, IL.

The applicant requests a permit renewal to take Illinois Cave Amphipod (Gammarus acherondytes) for scientific research within the State of Illinois. Proposed activities are to monitor and evaluate the recovery of the population and enhance the survival of the species in the wild.

Permit Application Number: TE212420.

Applicant: John A. Vucetich, Michigan Technological University, Houghton, MI.

The applicant requests a permit renewal to take (capture and release) the Gray Wolf (Canus lupus) within the Isle Royale National Park, State of Michigan. Proposed activities are for the enhancement of survival of the species in the wild.

Permit Application Number: TE06797A.

Applicant: Rod D. McClanahan, Anna, IL.

The applicant requests a permit renewal to take (capture and release) Indiana bats, gray bats, Virginia big-eared bats, Ozark big-eared bats, and Northern flying squirrel (Glaucomys sabrinus) throughout the States of Alabama, Arkansas, Connecticut, Delaware, Georgia, Illinois, Indiana, Iowa, Kansas, Kentucky, Maryland, Massachusetts, Michigan, Mississippi, Missouri, New Hampshire, New Jersey, New York, North Carolina, Ohio, Oklahoma, Pennsylvania, Rhode Island, South Carolina, Tennessee, Vermont, Virginia, West Virginia, and Wisconsin. The proposed activities are for the enhancement of survival of the species in the wild.

Permit Application Number: TE07358A.

Applicant: Civil & Environmental Consultants, Inc., Indianapolis, IN.

The applicant requests a permit renewal to take (capture and release) Indiana bats and gray bats throughout the States of Alabama, Arkansas, Georgia, Illinois, Indiana, Iowa, Kansas, Kentucky, Maryland, Massachusetts, Michigan, Mississippi, Missouri, New Jersey, New York, North Carolina, Ohio, Oklahoma, Pennsylvania, South Carolina, Tennessee, Vermont, Virginia, and West Virginia. The proposed activities are for the enhancement of survival of the species in the wild.

Permit Application Number: TE194099.

Applicant: Dr. Michael A. Hoggarth, Westerville, OH.

The applicant requests a permit renewal to take (capture and release) the following mussel species: Clubshell, Cracking pearlymussel, Cumberland bean, Cumberland combshell, Cumberland elktoe, Dromedary pearlymussel, Dwarf wedgemussel, Fanshell, Fat Pocketbook, James spinymussel, Littlewing pearlymussel, Oyster mussel, Orange-footed pimpleback pearlymussel, Pink mucket pearlymussel, Purple catspaw pearlymussel, Rabbitsfoot, Rayed bean, Ring pink, Rough pigtoe, Scaleshell, Sheepnose, Spectaclecase, Snuffbox mussel, Tan riffleshell, White catspaw, and White wartyback. Proposed activities may occur within the States of Kentucky, Indiana, Michigan, New York, Ohio, Pennsylvania, and West Virginia, and are for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: January 3, 2012.
Lynn Lewis,
Assistant Regional Director, Ecological Services, Region 3.

[FR Doc. 2012-743 Filed 1-13-12; 8:45 am]

BILLING CODE 4310-55-P